DEPARTMENT OF THE TREASURY

Alcohol and Tobacco Tax and Trade Bureau

27 CFR Parts 4 and 9

[Notice No. 79; Re: Notice No. 77]

RIN 1513-AA92

Proposed Establishment of the Calistoga Viticultural Area; Comment Period Extension

AGENCY: Alcohol and Tobacco Tax and Trade Bureau, Treasury.

ACTION: Notice of proposed rulemaking; extension of comment period.

SUMMARY: In response to industry member requests, we are extending the comment period for Notice No. 77, Proposed Establishment of the Calistoga Viticultural Area, a notice of proposed rulemaking published in the Federal Register on November 20, 2007, for an additional 90 days.

DATES: Written comments on Notice No. 77 must now be received on or before March 20, 2008.

ADDRESSES: You may send comments on Notice No. 77 to one of the following addresses:

• http://www.regulations.gov (Federal e-rulemaking portal; follow the instructions for submitting comments); or

• Director, Regulations and Rulings Division, Alcohol and Tobacco Tax and Trade Bureau, P.O. Box 14412, Washington, DC 20044-4412.

You may view copies of this notice, Notice No. 77, and any comments we receive about the proposals described in Notice No. 77 under Docket No. TTB-2007-0067 on the Regulations.gov Web site at http://www.regulations.gov. A link to Docket No. TTB-2007-0067 is also available on the TTB Web site at http://www.ttb.gov/regulations_laws/all_rulemaking.shtml, within the entry for Notice No. 77. In addition, you may view copies of the same materials described above by appointment at the TTB Information Resource Center, 1310 G Street, NW., Washington, DC 20220. To make an appointment, call (202) 927-2400.

FOR FURTHER INFORMATION CONTACT: Amy R. Greenberg, Regulations and Rulings Division, Alcohol and Tobacco Tax and Trade Bureau, 1310 G Street, NW., Suite 200E, Washington, DC 20220; telephone 202-927-8210; or e-mail Amy.Greenberg@ttb.gov.

SUPPLEMENTARY INFORMATION: On March 31, 2005, the Alcohol and Tobacco Tax and Trade Bureau (TTB) published a notice of proposed rulemaking in the Federal Register regarding the establishment of the Calistoga viticultural area (see Notice No. 36, 70 FR 16451). In light of comments regarding the potential adverse impact on established brand names that we received in response to that first notice, we published a second notice of proposed rulemaking on November 20, 2007, as Notice No. 77 (72 FR 65256) requesting comments on our proposal to provide “grandfather” protection for certain brand names used on existing certificates of label approval, provided those labels also carry information that would dispel an impression that the wine meets the requirements for using the viticultural area name. As originally published, comments on Notice No. 77 are due on or before December 20, 2007, 30 days after its publication.

Also on November 20, 2007, TTB published Notice No. 78 (72 FR 65261), a notice of proposed rulemaking regarding our regulations on the establishment of American viticultural areas. The proposed amendments clarify rules for preparing, submitting, and processing viticultural area petitions. The proposals contained in Notice No. 78 also include an amendment to 27 CFR 4.39(i) that would establish a “grandfather” provision to protect wine labels using a viticultural area name, provided that the label in question was approved and in actual commercial use for a specified period of time preceding TTB's receipt of a perfected petition for establishment of the viticultural area. As originally published, comments on Notice No. 78 are due on or before January 22, 2008, 60 days after its publication.

After the publication of Notice No. 77, TTB received two requests from wine industry groups to extend that notice's comment period. Both the Napa Valley Vintners, a trade group representing over 300 Napa Valley (California) vintners, and the Wine Institute, a trade representing 1,100 California wineries and wine-related businesses, requested that the comment period for Notice No. 77 be extended an additional 90 days.

In support of its extension request, Napa Valley Vintners indicates that the proposed grandfather provision contained in Notice No. 77 “is of great concern to our association” and is “inextricably linked” to TTB's more general grandfathering proposal contained in Notice No. 78. The association believes that its decisions regarding the two notices “should be made at the same time.” Its requested 90-day extension, the group states, will allow its Winegrower Appellation Committee to consider the grandfather provision and the specific questions posed by TTB in Notice No. 77. The Napa Valley Vintners' request notes that its appellation committee's recommendations must then be presented to the group's board of directors, which only meets once a month.

The Wine Institute, in its comment period extension request, also noted that Notice Nos. 77 and 78 deal with similar issues “that call for consistent rather than staggered comment periods.” In addition, the Wine Institute stated that, with the holiday season, its membership “is engaged in one of its busiest months of the year.”

In response to these requests, TTB extends the original 30-day comment period for Notice No. 77 for an additional 90 days, so that the comment period will equal 120 days. Therefore, comments on Notice No. 77 are now due on or before March 20, 2008.

Drafting Information

Michael Hoover of the Regulations and Rulings Division drafted this notice.

John J. Manfreda,
Administrator.

[FR Doc. E7-24361 Filed 12-14-07; 8:45 am]

BILLING CODE 4810-31-P